DEPARTMENT OF TRANSPORTATION

Research and Special Programs Administration

Office of Hazardous Materials Safety; Notice of Applications for Exemptions

AGENCY: Research and Special Programs Administration, DOT.

ACTION: List of Applicants for Exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before July 21, 2000.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW. Washington, DC 20590 or at http://dms.dot.gov.

This notice of receipt of applications for new exemptions is published in accordance with Part 107 of the Federal hazardous materials transportation law (49 U.S.C. 5117 (b); 49 CFR 1.53 (b)).

Issued in Washington, DC, on June 15, 2000.
J. Suzanne Hedgepeth,
Director, Office of Hazardous Materials Exemptions and Approvals.

New Exemptions
Application number | Docket number | Applicant | Regulation(s) affected | Nature of exemption thereof
12468-N | RSPA-00-7421 | Connecticut Yankee Atomic Power Co., East Hampton, CT | 49 CFR 173.403, 173.427(a)(1), 173.427(b) or (c) | To authorize the transportation in commerce of a reactor vessel containing low-level radioactive waste, Class 7. (modes 1, 2).
12469-N | RSPA-00-7430 | Department of Energy, Germantown, MD | 49 CFR 180.407 | To authorize an alternative testing method for DOT-Specification MC 312 and MC 412 cargo tanks used in transporting radioactive materials, Class 7 and corrosive materials, Class 8. (mode 1).
12473-N | RSPA-00-7431 | Old Bridge Metals & Chemicals, Inc., Old Bridge, NJ | 49 CFR 173.28(b) | To authorize the refilling of UN authorized packaging by the original user of the product with waste material which is being returned to the original manufacturer for treatment without performing leakproofness test prior to refilling. (mode 1).
12474-N | RSPA-00-7432 | Department of Defense (DOD), Falls Church, VA | 49 CFR 172.204, 173.301(i)&(j) | To authorize the transportation in commerce of two types of non-DOT specification compressed gas cylinders containing Division 2.2 materials. (mode 1).
12475-N | RSPA-00-7484 | Chemetall GmbH Gesellschaft, Langlshiem, DE | 49 CFR 173.181, 173.28(b)(2) | To authorize the transportation in commerce of lithium alkyls, Division 4.2, in certain 1A1 drums, without undergoing a leakproofness test prior to each refilling when refilled with lithium alkys and certain other liquid hazardous materials. (mode 1).
12476-N | RSPA-00-7485 | Fisher-Rosemount Petroleum, Tulsa, OK | 49 CFR 173.201, 173.202, 173.203, 173.304, 173.315 | To authorize the manufacture, marking and sale of non-DOT specification container described as a mechanical displacement meter prover mounted on a truck or trailer for use in transporting flammable liquid and flammable gases. (mode 1).
12479-N | RSPA-00-7481 | Luxfer Gas Cylinders, Riverside, CA | 49 CFR 173.302(a)(1), 175.3 | To authorize the manufacture, mark, sale and use of non-DOT specification fiberglass hoop wrapped cylinders for the transportation in commerce of certain compressed gases. (modes 1, 2, 3, 4, 5).
12483-N | RSPA-00-7519 | Security Disposal Inc., Waycross, GA | 49 CFR 172.101, Col. 8(b)&(c), 173.197 | To authorize the transportation in commerce of solid regulated medical waste, Division 6.2, in a non-DOT specification packaging consisting of a bulk outer packaging and non-bulk inner packagings. (mode 1).
12485-N | RSPA-00-7520 | StanTrans Services, Dallas, TX | 49 CFR 174.67(i), 174.67(i)&(j) | To authorize rail cars to remain standing while connected without the physical presence of an unloader. (mode 2).

[FR Doc. 00-15653 Filed 6-20-00; 8:45 am]

BILLING CODE 4910-60-M